POSTAL REGULATORY COMMISSION

[Docket No. MC2023-148; Order No. 6505]

Classification Changes

AGENCY: Postal Regulatory Commission.

ACTION: Notice.

SUMMARY: The Commission is recognizing a recent Postal Service filing concerning changes in classifications of general applicability for Priority Mail Express and Priority Mail. This notice informs the public of the filings, invites public comment, and takes other administrative steps.

DATES: Comments are due: May 22, 2023.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction and Overview

II. Loyalty Program

III. Initial Administrative Actions

IV. Ordering Paragraphs

I. Introduction and Overview

On May 10, 2023, the Postal Service filed notice with the Commission concerning changes in classifications of general applicability for Priority Mail Express and Priority Mail in order to begin the wind down process for its existing Loyalty Program.¹ The Postal Service represents that, as required by 39 CFR 3035.104(b), the Notice includes an explanation and justification for the changes, the effective date, and the record of proceedings regarding the decision. The changes are scheduled to take effect beginning on June 10, 2023. Notice at 1.

¹ USPS Notice of Changes in Classifications of General Applicability for Priority Mail Express and Priority Mail (Loyalty Program), May 10, 2023, at 1 (Notice).

Attached to the Notice is Governors' Decision No. 23-4.² Also attached to the Notice is draft Mail Classification Schedule (MCS) language for Priority Mail Express and Priority Mail related to the Loyalty Program.

² Notice, Decision of the Governors of the United States Postal Service on Changes in Classifications of General Applicability for Competitive Products (Governors' Decision No. 23-4), at 1 (Governors' Decision No. 23-4).

II. Loyalty Program

The Notice states that in August 2020, the Postal Service instituted a Loyalty Program to provide small and micro business customers incentives to ship with the Postal Service at Retail rates on the Click-N-Ship platform. Notice at 1. Loyalty Program members could earn credits based on volume shipped via Click-N-Ship at Retail rates. Id. at 2. Those credits could be redeemed for 12 months after issuance. Id.

According to the Postal Service, although the Loyalty Program has been successful, the Postal Service intends to sunset the Loyalty Program and instead offer its small and micro business customers access to published Commercial rates via Click-N-Ship. Id. at 1. The Notice states that those Commercial rates will be available on Click-N-Ship as of May 18, 2023. Id. at 2.

The proposed classification changes will take effect on June 10, 2023. Id. at 3. At that time, the Postal Service will cease issuing new credits under the Loyalty Program. Id. at 2. Any existing credits must be redeemed no later than June 9, 2024. Id. During this 1-year wind down period, customers may redeem their existing credits on any Priority Mail Express and Priority Mail shipments that are made at published Commercial rates. Id. At the conclusion of the wind down period, the Postal Service represents that it will submit a subsequent filing to the Commission in order to remove the Loyalty Program from the MCS entirely. Id.

III. Initial Administrative Actions

The Commission establishes Docket No. MC2023-148 to consider the Postal Service's Notice. Interested persons may express views and offer comments on whether the planned changes are consistent with 39 U.S.C. 3632, 3633, and 3642, 39 CFR part 3035, and 39 CFR 3040 subparts B and E. Comments are due no later than May 22, 2023. For specific details of the planned changes, interested persons are encouraged to review the Notice, which is available on the Commission's website at www.prc.gov.

Pursuant to 39 U.S.C. 505, Christopher C. Mohr is appointed to serve as Public Representative to represent the interests of the general public in this docket.

IV. Ordering Paragraphs

It is ordered:

1. The Commission establishes Docket No. MC2023-148 to provide interested persons an opportunity to express views and offer comments on whether the planned changes are consistent with 39 U.S.C. 3632, 3633, and 3642, 39 CFR part 3035, and 39 CFR 3040 subparts B and E.

2. Comments are due no later than May 22, 2023.

3. Pursuant to 39 U.S.C. 505, the Commission appoints Christopher C. Mohr to serve as an officer of the Commission (Public Representative) to represent the interests of the general public in this docket.

4. The Secretary shall arrange for publication of this order in the Federal Register.

By the Commission.
Erica A. Barker,
Secretary.

[FR Doc. 2023-10449 Filed 5-16-23; 8:45 am]

BILLING CODE 7710-FW-P